DEPARTMENT OF THE INTERIOR

National Park Service

[NPS-WASO-NRNHL-DTS#-33908; PPWOCRADI0, PCU00RP14.R50000]

National Register of Historic Places; Notification of Pending Nominations and Related Actions

AGENCY: National Park Service, Interior.

ACTION: Notice.

SUMMARY: The National Park Service is soliciting electronic comments on the significance of properties nominated before May 7, 2022, for listing or related actions in the National Register of Historic Places.

DATES: Comments should be submitted electronically by June 3, 2022.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before May 7, 2022. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

ALABAMA

Dallas County

Burwell-Dinkins-Anderson House (Civil Rights Movement in Selma, Alabama MPS), 700 L.L. Anderson Ave., Selma, MP100007801

Mobile County

Old Dauphin Way Historic District (Boundary Increase), 1200 Springhill Ave., Mobile, BC100007800

ALASKA

Kenai Peninsula Borough

Fort McGilvray Historic District, Caines Head State Recreation Area, Seward vicinity, SG100007802

CALIFORNIA

Los Angeles County

Hogan House, 8527 Brier Dr., Los Angeles, SG100007803

Old Farmdale School, 2839 North Eastern Ave., Los Angeles, SG100007804

KENTUCKY

Calloway County

Central Hazel Historic District, 200-700 Third, 200 blk. Barnettt, 300 blk. Calloway, 100-600 Main, 300 Dees, 301 Center, 215, 241, 306 Gilbert, and 500-600 Fourth Sts., 3581 US 641 South, Hazel, SG100007810

MAINE

Cumberland County

Dow Bridge, Dow Rd. at Josie's Brook, ⅓ mi. northwest of Cape Rd., Standish, SG100007807

Somerset County

Maine Spinning Company Mill, 7 Island Ave., Skowhegan, SG100007808

Washington County

Wass. David and Hadassah. House, 293 Water St., Addison, SG100007806

NEW YORK

Schenectady County

Wedgeway Building, 271-277 State St., Schenectady, SG100007805

SOUTH DAKOTA

Turner County

Stidworthy-Kemper House, 218 North Main St., Viborg, SG100007796

VIRGINIA

Loudoun County

Snickersville Turnpike, Snickersville Turnpike, VA 734, Bluemont vicinity, SG100007792

Richmond Independent City

Shockoe Hill Burying Ground Historic District, Bounded by 2nd St., northern limit of CSX right-of-way, historic property line and former stream courses, Richmond, SG100007793

Winchester Independent City

C.L. Robinson Ice and Cold Storage Corporation, 536-580 North Cameron St., Winchester, SG100007794

WISCONSIN

Sheboygan County

ABIAH (schooner) Shipwreck (Great Lakes Shipwreck Sites of Wisconsin MPS), 13.1 mi. northeast of the Sheboygan Harbor Lighthouse in L. Michigan, Haven vicinity, MP100007799

Nominations submitted by Federal Preservation Officer:

The State Historic Preservation Officer reviewed the following nominations and responded to the Federal Preservation Officer within 45 days of receipt of the nominations and supports listing the properties in the National Register of Historic Places.

FLORIDA

Wakulla County

Byrd Hammock (Boundary Decrease), Address Restricted, St. Marks vicinity, BC100007798

Byrd Hammock (Additional Documentation), Address Restricted, St. Marks vicinity, AD72000357

Authority: Section 60.13 of 36 CFR part 60.

Dated: May 10, 2022.
Sherry A. Frear,
Chief, National Register of Historic Places/National Historic Landmarks Program.

[FR Doc. 2022-10774 Filed 5-18-22; 8:45 am]

BILLING CODE 4312-52-P